DEPARTMENT OF VETERANS AFFAIRS

[OMB Control No. 2900-0519]

Agency Information Collection Activities Under OMB Review

AGENCY: Veterans Health Administration, Department of Veterans Affairs

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before August 26, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0519.”

Send comments and recommendations concerning any aspect of the information collection to VA's OMB Desk Officer, OMB Human Resources and Housing Branch, New Executive Office Building, Room 10235, Washington, DC 20503 (202) 395-7316. Please refer to “OMB Control No. 2900-0519” in any correspondence.

SUPPLEMENTARY INFORMATION: Title: Locality Pay System for Nurses and Other Health Care Personnel, VA Form 10-0132.

OMB Control Number: 2900-0519.

Type of Review: Extension of a currently approved collection.

Abstract: VA Form 10-0132 is used to collect data to determine locality pay rates for registered nurses and nurse anesthetists at VA facilities. VA medical facility directors establish rates of pay based on rates of compensation for corresponding positions in the local labor market. The law requires that where available, data from the Bureau of Labor Statistics or other third party industry surveys will be used in determining the beginning rates of compensation. Without this information, VA cannot provide for a locality pay system to maintain competitive pay rates for the recruitment and retention of affected healthcare personnel.

An agency may not conduct or sponsor, and a person is not required to respond to a collection of information unless it displays a currently valid OMB control number. The Federal Register Notice with a 60-day comment period soliciting comments on this collection of information was published on April 15, 2002, at pages 18304-18305.

Affected Public: Business or other for-profit.

Estimated Annual Burden: 1,519 hours.

Estimated Average Burden Per Respondent: 45 minutes.

Frequency of Response: Annually.

Estimated Number of Respondents: 2,025.

By direction of the Secretary.
Dated: July 15, 2002.
Genie McCully,
Acting Director, Information Management Service.

[FR Doc. 02-18788 Filed 7-24-02; 8:45 am]

BILLING CODE 8320-01-P